DEPARTMENT OF HEALTH AND HUMAN SERVICES

National Institutes of Health

National Institute of Neurological Disorders and Stroke; Amended Notice of Meeting

Notice is hereby given of a change in the meeting of the National Institute of Neurological Disorders and Stroke Special Emphasis Panel, January 9, 2014, 09:00 a.m. to January 9, 2014, 01:00 p.m., National Institutes of Health, Neuroscience Center, 6001 Executive Boulevard, Rockville, MD 20852 which was published in the Federal Register on February 13, 2014, 79FRN8727.

The meeting date has been changed to March 7, 2014. The time and meeting location remain the same. The meeting is closed to the public.

Dated: February 19, 2014.
Carolyn Baum,
Program Analyst, Office of Federal Advisory Committee Policy.

[FR Doc. 2014-03939 Filed 2-24-14; 8:45 am]

BILLING CODE 4140-01-P